DEPARTMENT OF TRANSPORTATION

Federal Motor Carrier Safety Administration

[Docket No. FMCSA-2021-0126]

Agency Information Collection Activities; Renewal of an Approved Information Collection: Financial Responsibility Motor Carriers, Freight Forwarders, and Brokers

AGENCY: Federal Motor Carrier Safety Administration (FMCSA), Department of Transportation.

ACTION: Notice and request for comments.

SUMMARY: In accordance with the Paperwork Reduction Act of 1995, FMCSA announces its plan to submit the Information Collection Request (ICR) described below to the Office of Management and Budget (OMB) for its review and approval and invites public comment. The purpose of this ICR, titled “Financial Responsibility Motor Carriers, Freight Forwarders, and Brokers,” is to provide registered motor carriers, property brokers, and freight forwarders a means of meeting financial responsibility filing requirements. This ICR sets forth the financial responsibility documentation requirements for motor carriers, freight forwarders, and brokers as a result of the Agency's jurisdictional statutes.

DATES: Comments on this notice must be received on or before March 25, 2022.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Mr. Lorenzo Allen, Lead Transportation Specialist, Office of Registration & Safety Information, West Building 6th Floor, 1200 New Jersey Avenue SE, Washington, DC 20590, (202) 385-2465, lorenzo.allen@dot.gov.

SUPPLEMENTARY INFORMATION:

Title: Financial Responsibility Motor Carriers, Freight Forwarders, and Brokers.

OMB Control Number: 2126-0017.

Type of Request: Renewal.

Respondents: For-hire Motor Carriers, Brokers, and Freight Forwarders.

Estimated Number of Respondents: 200,147.

Estimated Time per Response: The estimated average burden per response for Form BMC-40 is 40 hours. The estimated average burden per response for forms BMC-34, 35, 36, 82, 83, 84, 85, 91, and 91X is 10 minutes per form. In addition, form BMC-32 takes 10 minutes.

Expiration Date: February 28, 2022.

Frequency of Response: Certificates of insurance, surety bonds, and trust fund agreements are required when the transportation entity first registers with FMCSA and then when such coverages are changed or replaced by these entities. Notices of cancellation are required only when such certificates of insurance, surety bonds, or trust fund agreements are cancelled. The BMC-40 is filed only when a motor carrier or freight forwarder seeks approval from FMCSA to self-insure its bodily injury and property damage (BI & PD) and/or cargo liability coverage.

Estimated Total Annual Burden: 49,439 hours.

Background: The Secretary of Transportation (Secretary) is authorized to register for-hire motor carriers of property and passengers under the provisions of 49 U.S.C. 13902, surface freight forwarders under the provisions of 49 U.S.C. 13903, and property brokers under the provisions of 49 U.S.C. 13904. These persons may conduct transportation services only if they are registered pursuant to 49 U.S.C. 13901. The registration remains valid only as long as these transportation entities maintain, on file with FMCSA, evidence of the required levels of financial responsibility pursuant to 49 U.S.C. 13906. FMCSA regulations governing the financial responsibility requirements for these entities are found at 49 CFR part 387. The Secretary has delegated authority pertaining to these requirements to FMCSA. The information collected from these forms are summarized and displayed in FMCSA's Licensing and Information system.

Forms for Endorsements, Certificates of Insurance and Other Evidence of BI & PD Liability and Cargo Liability Financial Responsibility

Forms BMC-91 and BMC-91X, titled “Motor Carrier Automobile Bodily Injury and Property Damage Liability Certificate of Insurance,” and Form BMC-82, titled “Motor Carrier Bodily Injury Liability and Property Damage Liability Surety Bond Under 49 U.S.C. 13906,” provide evidence of the required coverage for BI & PD liability. A Form BMC-91X filing is required when a carrier's insurance is provided by multiple companies instead of just one. Form BMC-34, titled “Household Goods Motor Carrier Cargo Liability Certificate of Insurance,” and Form BMC-83, titled “Household Goods Motor Carrier Cargo Liability Surety Bond Under 49 U.S.C. 13906,” establish a carrier's compliance with the Agency's cargo liability requirements. Only household goods (HHG) motor carriers and HHG freight forwarders are required to file evidence of cargo insurance with FMCSA. §§ 387.303T(c), 387.403T(c). Form BMC-90, titled “Endorsement for Motor Carrier Policies of Insurance for Automobile Bodily Injury and Property Damage Liability Under Section 13906, Title 49 of the United States Code,” and Form BMC-32, titled “Endorsement for Household Goods Motor Carrier Policies of Insurance for Cargo Liability Under 49 U.S.C. 13906,” are executed by the insurance company, attached to the BI & PD or cargo liability insurance policy, respectively, and forwarded to the motor carrier or freight forwarder.

Requirement To Obtain Surety Bond or Trust Fund Agreement

Form BMC-84, titled “Broker's or Freight Forwarder's Surety Bond Under 49 U.S.C. 13906,” and Form BMC-85, titled “Broker's or Freight Forwarder's Trust Fund Agreement under 49 U.S.C. 13906 or Notice of Cancellation of the Agreement,” are filed by brokers or freight forwarders to comply with the requirement that they must have a $75,000 surety bond or trust fund agreement in effect before FMCSA will issue property broker or freight forwarder operating authority registration.

Cancellation of Prior Filings

Form BMC-35, titled “Notice of Cancellation Motor Carrier Insurance under 49 U.S.C. 13906,” Form BMC-36, titled “Motor Carrier and Broker's Surety Bonds under 49 U.S.C. 13906 Notice of Cancellation,” and Form BMC-85, titled “Broker's or Freight Forwarder's Trust Fund Agreement under 49 U.S.C. 13906 or Notice of Cancellation of the Agreement,” can be used to cancel prior filings.

Self-Insurance

Motor carriers and freight forwarders can also apply to FMCSA to self-insure BI & PD and/or cargo liability in lieu of filing certificates of insurance or surety bonds with the FMCSA. Form BMC-40 is the application used by motor carriers to apply for self-insurance authority.

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.
Thomas P. Keane,
Associate Administrator.

[FR Doc. 2022-03779 Filed 2-22-22; 8:45 am]

BILLING CODE 4910-EX-P